DEPARTMENT OF COMMERCE

Foreign-Trade Zones Board

[B-52-2016]

Production Activity Not Authorized Foreign-Trade Zone (FTZ) 134—Chattanooga, Tennessee, Wacker Polysilicon North America LLC, (Polysilicon), Charleston, Tennessee

On August 5, 2016, Wacker Polysilicon North America LLC submitted a notification of proposed production activity to the Foreign-Trade Zones (FTZ) Board for its facility within FTZ 134, in Charleston, Tennessee.

The notification was processed in accordance with the regulations of the FTZ Board (15 CFR part 400), including notice in the Federal Register inviting public comment (81 FR 54554, August 16, 2016). Pursuant to Section 400.37, the FTZ Board has determined that further review is warranted and has not authorized the proposed activity. If the applicant wishes to seek authorization for this activity, it will need to submit an application for production authority, pursuant to Section 400.23.

Dated: December 5, 2016.
Andrew McGilvray,
Executive Secretary.

[FR Doc. 2016-29435 Filed 12-7-16; 8:45 am]

BILLING CODE 3510-DS-P